DEPARTMENT OF COMMERCE

National Oceanic and Atmospheric Administration

Availability of Seats for National Marine Sanctuary Advisory Councils

AGENCY: Office of National Marine Sanctuaries (ONMS), National Ocean Service (NOS), National Oceanic and Atmospheric Administration (NOAA), Department of Commerce (DOC).

ACTION: Notice and request for applications.

SUMMARY: ONMS is seeking applications for vacant seats for five of its 13 national marine sanctuary advisory councils (advisory councils). Vacant seats, including positions (i.e., primary member and alternate), for each of the advisory councils are listed in this notice under Supplementary Information. Applicants are chosen based upon their particular expertise and experience in relation to the seat for which they are applying; community and professional affiliations; views regarding the protection and management of marine or Great Lake resources; and possibly the length of residence in the area affected by the sanctuary. Applicants who are chosen as members or alternates should expect to serve two- or three year terms, pursuant to the charter of the specific national marine sanctuary advisory council.

DATES: Applications are due by November 30, 2015.

ADDRESSES: Application kits are specific to each advisory council. As such, application kits must be obtained from and returned to the council-specific addresses noted below.

• Greater Farallones National Marine Sanctuary Advisory Council: Carolyn Gibson, Greater Farallones National Marine Sanctuary, 991 Marine Drive, The Presidio, San Francisco, CA 94129; (415) 561-6622 extension 306; email Carolyn.Gibson@noaa.gov; or download application from http://farallones.noaa.gov/manage/sac.html.

• Hawaiian Islands Humpback Whale National Marine Sanctuary Advisory Council: Inouye Regional Center, ATTN: NOS/ONMS/Shannon Lyday, 1845 Wasp Blvd., Building 176, Honolulu, HI 96818; (808) 725-5905; email Shannon.Lyday@noaa.gov; or download application from http://hawaiihumpbackwhale.noaa.gov/council/council_app_accepting.html.

• Monterey Bay National Marine Sanctuary Advisory Council: Nichole Rodriguez, Monterey Bay National Marine Sanctuary, 99 Pacific St. Building 455A, Monterey, CA; (831) 647-4206; email Nichole.Rodriguez@noaa.gov; or download application from http://montereybay.noaa.gov/sac/2015/recruit15v2/151102covlet.html.

• National Marine Sanctuary of American Samoa Advisory Council: Joseph Paulin, National Marine Sanctuary of American Samoa, Tauese P.F. Sunia Ocean Center, P.O. Box 4318, Pago Pago, AS 96799 (Utulei, American Samoa); (684) 633-6500; email Joseph.Paulin@noaa.gov; or download application from http://americansamoa.noaa.gov/about/samoa.html.

• Olympic Coast National Marine Sanctuary Advisory Council: Karlyn Langjahr, Olympic Coast National Marine Sanctuary, 115 East Railroad Ave., Suite 101, Port Angeles, WA 98362; (360) 457-6622 extension 31; email Karlyn.Langjahr@noaa.gov; or download application from http://olympiccoast.noaa.gov/involved/sac/sac_welcome.html.

FOR FURTHER INFORMATION CONTACT: For further information on a particular national marine sanctuary advisory council, please contact the individual identified in the Addresses section of this notice.

SUPPLEMENTARY INFORMATION: ONMS serves as the trustee for 14 marine protected areas encompassing more than 170,000 square miles of ocean and Great Lakes waters from the Hawaiian Islands to the Florida Keys, and from Lake Huron to American Samoa. National marine sanctuaries protect our Nation's most vital coastal and marine natural and cultural resources, and through active research, management, and public engagement, sustains healthy environments that are the foundation for thriving communities and stable economies. One of the many ways ONMS ensures public participation in the designation and management of national marine sanctuaries is through the formation of advisory councils. National marine sanctuary advisory councils are community-based advisory groups established to provide advice and recommendations to the superintendents of the national marine sanctuaries on issues including management, science, service, and stewardship; and to serve as liaisons between their constituents in the community and the sanctuary. Additional information on ONMS and its advisory councils can be found at http://sanctuaries.noaa.gov. Information related to the purpose, policies and operational requirements for advisory councils can be found in the charter for a particular advisory council (http://sanctuaries.noaa.gov/management/ac/council_charters.html) and the National Marine Sanctuary Advisory Council Implementation Handbook (http://www.sanctuaries.noaa.gov/management/ac/acref.html).

The following is a list of the vacant seats, including positions (i.e., primary member or alternate), for each of the advisory councils currently seeking applications for members and alternates:

Greater Farallones National Marine Sanctuary Advisory Council: Public Youth (alternate).

Hawaiian Islands Humpback Whale National Marine Sanctuary Advisory Council: Citizen-at-large (alternate); Education (alternate); Fishing (primary); Fishing (alternate); Hawai‘i County (primary); Hawai‘i County (alternate); Honolulu County (primary); Kaua‘i County (primary); Kaua‘i County (alternate); Lāna‘i Island (alternate); Research (primary); Maui County (primary); Maui County (alternate); Moloka‘i Island (alternate); Tourism (alternate); Whale Watching (primary); and Whale Watching (alternate).

Monterey Bay National Marine Sanctuary Advisory Council: At-Large (alternate).

National Marine Sanctuary of American Samoa Advisory Council: Business/Industry (primary).

Olympic Coast National Marine Sanctuary Advisory Council: Education (primary); Education (alternate); Fishing (primary); Fishing (alternate); Marine Resources Committee (primary); Marine Resources Committee (alternate); and Tourism/Economic Development (alternate).

Authority: 16 U.S.C. Sections 1431, et seq.

(Federal Domestic Assistance Catalog Number 11.429 Marine Sanctuary Program)

Dated: September 30, 2015.
John Armor,
Acting Director, Office of National Marine Sanctuaries, National Ocean Service, National Oceanic and Atmospheric Administration.

[FR Doc. 2015-27987 Filed 11-2-15; 8:45 am]

BILLING CODE 3510-NK-P